DEPARTMENT OF HOMELAND SECURITY

Transportation Security Administration

Extension of Agency Information Collection Activity Under OMB Review: Registered Traveler Pilot (RT) Pilot Program; Satisfaction and Effectiveness Measurement Data Collection Instruments

AGENCY: Transportation Security Administration, DHS.

ACTION: Notice.

SUMMARY: This notice announces that the Transportation Security Administration (TSA) has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on July 18, 2006, 71 FR 40731.

DATES: Send your comments by December 4, 2006. A comment to OMB is most effective if OMB receives it within 30 days of publication.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Katrina Kletzly, Attorney-Advisor, Office of the Chief Counsel, TSA-2, Transportation Security Administration, 601 South 12th Street, Arlington, VA 22202-4220; telephone (571) 227-1995; facsimile (571) 227-1381.

SUPPLEMENTARY INFORMATION:

Comments Invited

In accordance with the Paperwork Reduction Act of 1995 (44 U.S.C. 3501 et seq.,) an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Registered Traveler Pilot (RT) Pilot Program; Satisfaction and Effectiveness Measurement Data Collection Instruments.

Type of Request: Extension of a currently approved collection.

OMB Control Number: 1652-0019.

Forms(s): Electronic enrollment application; satisfaction survey.

Affected Public: Applicants to the RT program and lead stakeholders.

Abstract: TSA is expanding the scope of the Registered Traveler (RT) Pilot Program, which is currently in operation at one airport and is already approved by OMB, to test and evaluate specific technologies and business processes related to the RT concept. In addition, TSA will add additional locations using the RT Pilot Program's public/private partnership. Based on information collected from Sponsoring Entities, TSA will retain enrollment information for purposes of completing and adjudicating name-based security threat assessments and allow Sponsoring Entities to issue an RT card to approved applicants. TSA will also administer two collections to solicit feedback: (1) Customer satisfaction surveys and (2) stakeholder interviews. For pre-qualification, TSA will collect information from companies seeking to participate in the RT program as Service Providers, including personally identifying information about company key personnel in order to conduct security threat assessments. Currently, with OMB's approval, airport authorities or aircraft operators who wish to participate in the RT program are submitting the suggested Statements of Interest.

Number of Respondents: 744,204.

Estimated Annual Burden Hours: An estimated 236,818 hours annually. After further evaluation, TSA has adjusted the number of respondents and estimated annual burden hours reported in its July 18, 2006 notice.

Issued in Arlington, Virginia, on October 30, 2006.
Peter Pietra,
Director of Privacy Policy and Compliance.

[FR Doc. E6-18583 Filed 11-2-06; 8:45 am]

BILLING CODE 9110-05-P